DEPARTMENT OF EDUCATION

[Docket No. ED-2021-SCC-0078]

Agency Information Collection Activities; Submission to the Office of Management and Budget for Review and Approval; Comment Request; Statewide Longitudinal Data System (SLDS) Survey 2021-2023

AGENCY: Institute of Educational Science (IES), Department of Education (ED).

ACTION: Notice.

SUMMARY: In accordance with the Paperwork Reduction Act of 1995, ED is proposing a revision of a currently approved collection.

DATES: Interested persons are invited to submit comments on or before October 20, 2021.

ADDRESSES: Written comments and recommendations for proposed information collection requests should be sent within 30 days of publication of this notice to www.reginfo.gov/public/do/PRAMain. Find this information collection request by selecting “Department of Education” under “Currently Under Review,” then check “Only Show ICR for Public Comment” checkbox. Comments may also be sent to ICDocketmgr@ed.gov.

FOR FURTHER INFORMATION CONTACT: For specific questions related to collection activities, please contact Carrie Clarady, 202-245-6347.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Statewide Longitudinal Data System (SLDS) Survey 2021-2023.

OMB Control Number: 1850-0933.

Type of Review: A revision of a currently approved collection.

Respondents/Affected Public: State, Local, and Tribal Governments.

Total Estimated Number of Annual Responses: 112.

Total Estimated Number of Annual Burden Hours: 140.

Abstract: The National Center for Education Statistics (NCES), of the Institute of Education Sciences (IES), within the U.S. Department of Education, is requesting clearance to continue the Statewide Longitudinal Data System (SLDS) Survey collection, which is intended to provide insight on State and U.S. territory SLDS capacity for automated linking of K-12, teacher, postsecondary, workforce, career and technical education (CTE), adult education, and early childhood data. The SLDS Survey will continue to be collected annually from State Education Agencies (SEAs), and will help inform NCES ongoing evaluation and targeted technical assistance efforts to enhance the quality of the SLDS Program's support to States regarding systems development, enhancement, and use. The request to conduct all activities related to SLDS 2020-22, including materials and procedures, was approved by OMB in May 2020 (OMB #1859-0933v.8), with a nonsubstantive change request (OMB #1859-0933v.9) approved in August 2020. The SLDS 2020-22 package included a new data collection tool, a Google Form developed for an electronic data collection. That tool was not as successful in the 2020 data collection as NCES would like (see section A.3 for a richer discussion of this). This new request is to conduct all activities related to SLDS 2021-23. It submits enhancements to the OMB-approved Survey, intended to bring consistency to questions across sectors, provide greater definition and clarity to terminology and questions used within the SLDS Survey, and address pandemic-related response across states. In addition, this request submits screenshots of the new Qualtrics information collection tool that will replace the Google Form introduced for SLDS 2020 and which will be used in the 2021 SLDS Data Collection (for proposed changes, see Appendix E) and is planned for use in subsequent collections. Finally, this request submits screenshots of the updated webinar, as the SLDS Program proposes the option to host one or two SLDS Survey webinars to familiarize respondents with the collection tool and completion process. All proposed changes are captured within these documents, including accompanying appendices.

Dated: September 14, 2021.
Stephanie Valentine,
PRA Coordinator, Strategic Collections and Clearance Governance and Strategy Division, Office of Chief Data Officer Office of Planning, Evaluation and Policy Development.

[FR Doc. 2021-20209 Filed 9-17-21; 8:45 am]

BILLING CODE 4000-01-P